DEPARTMENT OF ENERGY

Federal Energy Regulatory Commission

[Project No. 14876-000]

Western Minnesota Municipal Power Authority; Notice of Preliminary Permit Application Accepted for Filing and Soliciting Comments, Motions To Intervene, and Competing Applications

On April 19, 2018, Western Minnesota Municipal Power Authority filed an application for a preliminary permit, pursuant to section 4(f) of the Federal Power Act (FPA), proposing to study the feasibility of the Gregory County Pumped Storage Project to be located on Lake Francis Case on the Missouri River, near the township of Lucas, in Gregory, Charles Mix, and Brule Counties, South Dakota. The sole purpose of a preliminary permit, if issued, is to grant the permit holder priority to file a license application during the permit term. A preliminary permit does not authorize the permit holder to perform any land-disturbing activities or otherwise enter upon lands or waters owned by others without the owners' express permission.

The proposed project would consist of the following: (1) A new 1,200-acre earthen embankment levee (upper reservoir) having a total storage capacity of 50,000 acre-feet with an operating elevation level of between 2,045 feet mean sea level (msl) and 2,087 feet msl; (2) a new 550-foot-long by 120-foot-wide by 100-foot-high reinforced concrete powerhouse containing eight new 150-megawatt (MW) turbine units for a total plant rating of 1,200 MW; (3) thirty new 15-foot-wide by 20-foot-deep reinforced concrete trashracks with an open bar spacing of 3.75 inches; (4) two new 6,000-foot-long, 32-foot-diameter reinforced concrete penstocks; (5) two new 120-foot-high, 40-foot-diameter reinforced concrete surge tanks connected to each penstock; (6) the existing 102,000-acre Lake Francis Case (lower reservoir) with a storage capacity of 5,494,000 acre-feet at normal maximum operation elevation of 1,355 feet msl; (7) a new 6,000-foot-long, horse-shoe configured tailrace tunnel that daylights to a 350-foot-long tailrace channel (upstream of the trashrack) from the powerhouse to Lake Francis Case; (8) a new 200-foot by 360-foot substation on top of the powerhouse containing four step-up transformers; (9) a new 21-mile-long, 345-kilovolt (kV) transmission line extending from the project substation to the existing Lake Platte substation (the point of interconnection); and (10) appurtenant facilities. The estimated annual generation of the Gregory County Pumped Storage Project would be 3,500 gigawatt-hours.

Applicant Contact: Mr. Raymond J. Wahle, Missouri River Energy Services, 3724 W. Avera Drive, P.O. Box 88920, Sioux Falls, SD 57109; phone: (605) 330-6963.

FERC Contact: Tyrone Williams; phone: (202) 502-6331.

Deadline for filing comments, motions to intervene, competing applications (without notices of intent), or notices of intent to file competing applications: 60 days from the issuance of this notice. Competing applications and notices of intent must meet the requirements of 18 CFR 4.36.

The Commission strongly encourages electronic filing. Please file comments, motions to intervene, notices of intent, and competing applications using the Commission's eFiling system at http://www.ferc.gov/docs-filing/efiling.asp. Commenters can submit brief comments up to 6,000 characters, without prior registration, using the eComment system at http://www.ferc.gov/docs-filing/ecomment.asp. You must include your name and contact information at the end of your comments. For assistance, please contact FERC Online Support at FERCOnlineSupport@ferc.gov, (866) 208-3676 (toll free), or (202) 502-8659 (TTY). In lieu of electronic filing, please send a paper copy to: Secretary, Federal Energy Regulatory Commission, 888 First Street NE, Washington, DC 20426. The first page of any filing should include docket number P-14876-000.

More information about this project, including a copy of the application, can be viewed or printed on the “eLibrary” link of Commission's website at http://www.ferc.gov/docs-filing/elibrary.asp. Enter the docket number (P-14876) in the docket number field to access the document. For assistance, contact FERC Online Support.

Dated: June 8, 2018.
Kimberly D. Bose,
Secretary.

[FR Doc. 2018-12881 Filed 6-14-18; 8:45 am]

BILLING CODE 6717-01-P